DEPARTMENT OF ENERGY

Federal Energy Regulatory Commission

[Docket Nos. CP06-66-000, CP06-67-000, CP06-68-000]

Port Barre Investments, L.L.C. (d/b/a Bobcat Gas Storage); Notice of Application

February 23, 2006.

On February 15, 2006, in Docket Nos. CP06-66-000, CP06-67-000 and CP06-68-000, Port Barre Investments, L.L.C. (d/b/a Bobcat Gas Storage (Bobcat)), pursuant to section 7(c) of the Natural Gas Act, as amended, and sections 157 Subparts A and F, and section 284 Subpart G of the Federal Energy Regulatory Commission's (Commission) regulations, filed requests for: authorization to construct, own, and operate the Bobcat Gas Storage Project; a Subpart F construction, operation and abandonment blanket certificate (CP06-67-000); and, for a Subpart G transportation blanket certificate (CP06-68-000). Bobcat also seeks: approval of its pro forma tariff; authorization to charge market-based rates for the proposed storage services; and waiver of certain Commission regulations. Further, Bobcat asks that the Commission issue requested authorizations by July 15, 2006, so that construction may begin by September 2006 and initial storage operations can commence by the winter 2007 heating season. Start-up in this timeframe also would coincide with proposed in-service dates of certain Gulf Coast region liquefied natural gas import terminals.

The new, high-deliverability storage facility would be located in St. Landry Parish, Louisiana in close proximity to Eunice, Louisiana and the Henry Hub. The facility would have interconnections with five interstate and one intrastate gas pipeline systems. Due to the sequential construction process associated with the four phases of the Project, Bobcat requests that the Commission authorize construction over a five-year period.

Questions concerning the application should be directed to Paul Bieniawski at Bobcat Gas Storage, 14090 Southwest Freeway, Suite 460, Sugar Land, Texas 77478-3679, or by calling (281) 242-2381 or Lisa Tonery at, King & Spalding LLP, 1185 Avenue of the Americas, New York, NY 10036 or by calling 212-556-2307.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link at http://www.ferc.gov. The Commission strongly encourages intervenors to file electronically.

The Commission may issue a preliminary determination on non-environmental issues prior to the completion of its review of the environmental aspects of the Projects. This preliminary determination typically considers such issues as the need for the Project and its economic effect on other pipelines in the area and on land and communities.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSuport@ferc.gov, or call (866) 208-3676 (toll free). For TTY, call (202) 502-8659.

Comment Date: 5 p.m. Eastern Time on March 16, 2006.

Magalie R. Salas,
Secretary.

[FR Doc. E6-2875 Filed 2-28-06; 8:45 am]

BILLING CODE 6717-01-P